DEPARTMENT OF TRANSPORTATION

Coast Guard

33 CFR Part 164; 46 CFR Parts 25 and 27

[USCG-2000-6931]

RIN 2115-AF53

Fire-Suppression Systems and Voyage Planning for Towing Vessels

AGENCY: Coast Guard, DOT.

ACTION: Supplemental notice of proposed rulemaking; Notice of meeting and reopening of comment period.

SUMMARY: The Coast Guard will hold a public meeting to let members of the public present oral comments on proposed rules for improving the safety of towing vessels. A supplemental notice of proposed rulemaking (SNPRM) published on November 8, 2000, would require the installation of fixed fire-extinguishing systems in towing vessels' engine rooms, and it would require owners or operators, and masters, to ensure that voyage plans are complete before their towing vessels commence trips with any barges in tow. These rules would reduce the number of uncontrolled fires in engine rooms, and other fire-related or operational mishaps on towing vessels; they would thereby save lives, diminish property damage, and reduce the associated threats to the environment and maritime commerce.

DATES: The Coast Guard will hold this public meeting on August 15, 2001, from 1 p.m. to 5 p.m., except that the meeting may close early if all business is finished. Other comments must reach the Docket Management Facility on or before September 15, 2001.

ADDRESSES: The Coast Guard will hold this public meeting at the Radisson Hotel, 1001 3rd Avenue, Huntington, West Virginia. The telephone number is 304-525-1001.

You may submit your comments directly to the Docket Management Facility. To make sure that your comments and related material are not entered more than once in the docket [USCG-2000-6931], please submit them by only one of the following means:

(1) By mail to the Facility, U.S. Department of Transportation, room PL-401, 400 Seventh Street SW., Washington, DC 20590-0001.

(2) By delivery to room PL-401 on the Plaza level of the Nassif Building, 400 Seventh Street SW., Washington, DC, between 9 a.m. and 5 p.m., Monday through Friday, except Federal holidays. The telephone number is 202-366-9329.

(3) By fax to the Facility at 202-493-2251.

(4) Electronically through the Web Site for the Docket Management System at http://dms.dot.gov.

The Facility maintains the public docket for this notice. Comments, and documents as indicated in this notice, will become part of this docket and will be available for inspection or copying at room PL-401, on the Plaza level of the Nassif Building at the same address between 9 a.m. and 5 p.m., Monday through Friday, except Federal holidays. You may also access this docket on the Internet at http://dms.dot.gov.

FOR FURTHER INFORMATION CONTACT: For questions on this notice, call Randall Eberly, P. E., Project Manager, Lifesaving and Fire Safety Division of the Office of Design and Engineering Standards (G-MSE-4), Coast Guard, telephone 202-267-1861. For questions on viewing, or submitting material to the docket, call Dorothy Beard, Chief, Dockets, Department of Transportation, telephone 202-366-9329.

SUPPLEMENTARY INFORMATION:

Requests for Comments

The Coast Guard encourages you to submit comments and related material on the proposed rules concerning fire-suppression systems and voyage planning for towing vessels. If you do so, please include your name and address, identify the docket number [USCG-2000-6931] and give the reasons for each comment. You may submit your comments and material by mail, delivery, fax, or electronic means to the Docket Management Facility at the address under ADDRESSES; but please submit your comments and material by only one means. If you submit them by mail or delivery, submit them in an unbound format, no larger than 8½ by 11 inches, suitable for copying and electronic filing. If you submit them by mail and would like to know they reached the Facility, please enclose a stamped, self-addressed postcard or envelope. We will consider all comments and material received during the comment period.

Information on Service for Individuals With Disabilities

For information on facilities or services for individuals with disabilities or to seek special assistance at the meeting, contact Mr. Eberly at the address or phone number under FOR FURTHER INFORMATION CONTACT as soon as possible.

Background Information

The SNPRM on “Fire-Suppression Systems and Voyage Planning for Towing Vessels” [USCG-2000-6931] was published in the Federal Register November 8, 2000 [65 FR 66941]. It proposes the installation of fixed fire-extinguishing systems in the engine rooms of towing vessels, and it proposes that owners or operators, and masters, ensure that voyage planning is conducted before vessels towing barges get under way on trips or voyages of at least 12 hours. Towing vessels that engage only in assistance towing, pollution response, or fleeting duties in limited geographical areas would be exempt from the measures in this SNPRM. The SNPRM stems from the incident on January 19, 1996, when the tugboat SCANDIA, with the tank barge NORTH CAPE in tow, caught fire five miles off the coast of Rhode Island. Crewmembers could not control the fire and, without power, they were unable to prevent the barge carrying 4 million gallons of oil from grounding and spilling about a quarter of its contents into the coastal waters. The spill led Congress to amend the law to permit the Secretary of Transportation—”in consultation with the Towing Safety Advisory Committee” (TSAC)—to require fire-suppression and other measures on all towing vessels. The measures outlined in the SNPRM would likely decrease the number and severity of injuries to crews, prevent damage to vessels, structures, and other property, and protect the environment.

On February 8, 2001, a public meeting concerning the SNPRM was held in Washington, DC (as announced in the Federal Register on December 28, 2000 [65 FR 82303]). On February 23, 2001, we announced in the Federal Register that we were extending the comment period for the SNPRM to May 8, 2001 [66 FR 11241]. Several comments to the docket sought another public meeting, in Huntington, West Virginia. The Coast Guard agrees with those comments, so we are planning to hold the meeting announced by this notice.

Public Meeting

The Coast Guard encourages interested persons to attend the meeting and present oral comments during the meeting. The meeting is open to members of the public. Please note that the meeting may close early if all business is finished. If you would like to present an oral comment during the meeting, please notify Mr. Eberly at the address given under FOR FURTHER INFORMATION CONTACT no later than August 8, 2001. If you are unable to attend the meeting, you may submit comments as indicated under SUPPLEMENTARY INFORMATION.

Dated: July 2, 2001.
Joseph J. Angelo,
Acting Assistant Commandant for Marine Safety and Environmental Protection.

[FR Doc. 01-17108 Filed 7-10-01; 8:45 am]

BILLING CODE 4910-15-U